DEPARTMENT OF HOUSING AND URBAN DEVELOPMENT

[Docket No. FR-7052-N-05]

60-Day Notice of Proposed Information Collection: Economic Development Initiative Community Project Funding Grants, OMB Control No.: 2506-0217

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 25, 2022.

ADDRESSES: Interested persons are invited to submit comments regarding this proposal. Comments should refer to the proposal by name and/or OMB Control Number and should be sent to: Anna Guido, Management Analyst, QDAM, Department of Housing and Urban Development, 451 7th Street SW, Room 4176, Washington, DC 20410-5000; telephone 202-402-5535 (this is not a toll-free number) or email at anna.p.guido@hud.gov for a copy of the proposed forms or other available information. Persons with hearing or speech impairments may access this number through TTY by calling the toll-free Federal Relay Service at (800) 877-8339.

FOR FURTHER INFORMATION CONTACT: Holly A. Kelly Department of Housing and Urban Development, 451 7th Street, SW, (7128), Washington, DC 20410; telephone 202-402-6324, (this is not a toll-free number). Persons with hearing or speech impairments may access this number via TTY by calling the Federal Relay Service at (800) 877-8339. Copies of available documents submitted to OMB may be obtained from Anna Guido.

SUPPLEMENTARY INFORMATION: This notice informs the public that HUD is seeking approval from OMB for the information collection described in Section A.

A. Overview of Information Collection

Title of Information Collection: Economic Development Initiative Community Project Funding Grants.

OMB Approval Number: 2506-0217.

Type of Request: Revision of Currently Approved Collection.

Form Number: Application for Federal Assistance (SF-424); Assurances for Non-Construction Programs (SF-424B); Assurances for Construction Programs (SF-424D); Disclosure of Lobbying Activities (SF-LLL); Disclosure/Update Report (Form HUD-2880); Direct Deposit Sign-Up (SF-1199A); eLOCCS Access Authorization Form (HUD 27054); Change of Address Request (HUD 27056); and Grant Reporting (DRGR).

Description of the need for the information and proposed use:

Information collection | Number of respondents | Frequency of response | Responses per annual | Burden hour per response | Annual burden hours | Hourly cost per response | Annual cost
Application for Federal Assistance (SF-424) | 0 | 0 | 0 | 0 | 0 | 0 | 0
Assurances for Non-Construction Programs (SF-424B) | 0 | 0 | 0 | 0 | 0 | 0 | 0
Assurances for Construction Programs (SF-424D) | 0 | 0 | 0 | 0 | 0 | 0 | 0
Disclosure of Lobbying Activities (SF-LLL) | 0 | 0 | 0 | 0 | 0 | 0 | 0
Disclosure/Update Report (Form HUD-2880) | 1,000 | 1 | 1,000 | .5 | 500 | $32.73 | $16,365.00
Direct Deposit Sign-Up (SF-1199A) | 0 | 0 | 0 | 0 | 0 | 0 | 0
eLOCCS Access Authorization Form (HUD 27054) | 1,000 | 1 | 1,000 | 1 | 1,000 | 32.73 | 32,730.00
Change of Address Request (HUD 27056) | 1,000 | 1 | 1,000 | .5 | 500 | 32.73 | 16,365.00
Grant Reporting (DRGR) | 1,000 | 2 | 2,000 | 3 | 6,000 | 32.73 | 196,380.00
Total | 1,000 | 5 | 5,000 | 5 | 8,000 | 32.73 | 261,840.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Acting General Deputy Assistant Secretary for Community Planning and Development, Jemine A. Bryon, having reviewed and approved this document, is delegating the authority to electronically sign this document to submitter, Nacheshia Foxx, who is the Federal Register Liaison for HUD, for purposes of publication in the Federal Register.

Nacheshia Foxx,
Federal Register Liaison, Department of Housing and Urban Development.

[FR Doc. 2022-18398 Filed 8-25-22; 8:45 am]

BILLING CODE 4210-67-P